DEPARTMENT OF LABOR

Employment and Training Administration

[TA-W-36,874]

Fahnos Apparel, Inc. El Paso, TX; Amended Certification Regarding Eligibility To Apply for Worker Adjustment Assistance

In accordance with Section 223 of the Trade Act of 1974 (19 U.S.C. 2273) the Department of Labor issued a Certification of Eligibility to Apply for Worker Adjustment Assistance on November 19, 1999 applicable to workers of Fashions Apparel Corporation, El Paso, Texas. The notice was published in the Federal Register on December 28, 1999 (64 FR 72691).

At the request of the State agency, the Department reviewed the certification for workers of the subject firm. New findings show that the Department incorrectly identified the subject firm name in its entirety. The Department is amending the certification determination to correctly identify the subject firm title name to read “Fahnos Apparel, Inc.”.

The amended notice applicable to TA-W-36,874 is hereby issued as follows:

All workers of Fahnos Apparel, Inc., El Paso, Texas who became totally or partially separated from employment on or after September 10, 1998 through November 19, 2001 are eligible to apply for adjustment assistance under Section 223 of the Trade Act of 1974.

Signed at Washington, D.C. this 20th day of April 2000.
Edward A. Tomchick,
Director, Division of Trade Adjustment Assistance.

[FR Doc. 00-11110 Filed 5-3-00; 8:45 am]

BILLING CODE 4510-30-M